DEPARTMENT OF VETERANS AFFAIRS

38 CFR Part 61

RIN 2900-AP54

VA Homeless Providers Grant and Per Diem Program

Correction

In proposed rule document 2017-15338, appearing on pages 34457-34464 in the issue of Tuesday, July 25, 2017, make the following correction:

On page 34463, in the second column, in the twenty-third line from the top, “118” should read “1/8”.

[FR Doc. C1-2017-15338 Filed 8-14-17; 8:45 am]

BILLING CODE 1301-00-D